DEPARTMENT OF COMMERCE

Foreign-Trade Zones Board

[B-24-2015]

Foreign-Trade Zone (FTZ) 7—Mayaguez, Puerto Rico; Notification of Proposed Production Activity; Neolpharma, Inc.; Subzone 7O; (Pharmaceutical Products); Caguas, Puerto Rico

The Puerto Rico Industrial Development Company, grantee of FTZ 7, submitted a notification of proposed production activity to the FTZ Board on behalf of Neolpharma, Inc. (Neolpharma), operator of Subzone 7O in Caguas, Puerto Rico. The notification conforming to the requirements of the regulations of the FTZ Board (15 CFR 400.22) was received on April 20, 2015.

Neolpharma already has authority to produce clarithromycin, azithromycin, levothyroxine, hydroxyzine pamoate and hydroxyzine hydrochloride. The current request would add finished products and foreign-status materials to the scope of authority. Neolpharma may produce its own products or provide contract manufacturing operations for other companies.

Pursuant to 15 CFR 400.14(b), additional FTZ authority would be limited to the specific foreign-status materials/components and specific finished products described in the submitted notification (as described below) and subsequently authorized by the FTZ Board.

Production under FTZ procedures could exempt Neolpharma from customs duty payments on the foreign-status materials and components used in export production. On its domestic sales, Neolpharma would be able to choose the duty rate (duty-free) during customs entry procedures that applies to the final products (whether in brand name or generic form)—Doxycycline capsules; Calan SR™; Celebrex™; Geodon HFC™; Ziprasidone HFC; Norpace CR™ and Norpace IR™—for the foreign status materials noted below and in the existing scope of authority. Customs duties also could possibly be deferred or reduced on foreign status production equipment.

The materials sourced from abroad include: Microcrystalline cellulose; disopyramide phosphate USP; and, lactose monohydrate (duty rate ranges from 5.2% to 6.5%).

Public comment is invited from interested parties. Submissions shall be addressed to the FTZ Board's Executive Secretary at the address below. The closing period for their receipt is June 10, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: April 23, 2015.
Andrew McGilvray,
Executive Secretary.

[FR Doc. 2015-10168 Filed 4-30-15; 8:45 am]

BILLING CODE 3510-DS-P